DEPARTMENT OF TRANSPORTATION

Federal Aviation Administration

Research, Engineering and Development (R,E&D) Advisory Committee

AGENCY: Federal Aviation Administration.

ACTION: Notice of meeting.

Pursuant to section 10(A)(2) of the Federal Advisory Committee Act (Pub. L. 92-463; 5 U.S.C. App. 2), notice is hereby given of a meeting of the FAA Research, Engineering and Development (R,E&D) Advisory Committee.

Name: Research, Engineering & Development Advisory Committee.

Time and Date: April 29—9 a.m.-5 p.m.; April 30—9 a.m.-5 p.m.

Place: Federal Aviation Administration—Bessie Coleman Room 800 Independence Avenue, SW., Washington, DC.

Purpose: On April 29-30 from 9 a.m.-5 p.m. the meeting agenda will include receiving from the Committee guidance for FAA's research and development investments in the areas of air traffic services, airports, aircraft safety, security, human factors and environment and energy.

Attendance is open to the interested public but seating is limited. Persons wishing to attend the meeting or obtain information should contact Gloria Dunderman at the Federal Aviation Administration, AAR-200, 800 Independence Avenue, SW., Washington, DC 20591 (202) 267-8937 or gloria.dunderman@faa.gov. All attendees will be required to sign-in at security, provide picture ID and be escorted to the meeting room.

Members of the public may present a written statement to the Committee at any time.

Issued in Washington, DC on March 18, 2003.
Herman A. Rediess,
Director, Office of Aviation Research.

[FR Doc. 03-7551 Filed 3-28-03; 8:45 am]

BILLING CODE 4910-13-M